DEPARTMENT OF COMMERCE

Economic Development Administration

Request for Information on Implementation of the Regional Technology and Innovation Hub Program

AGENCY: Economic Development Administration, U.S. Department of Commerce.

ACTION: Request for information.

SUMMARY: The Department of Commerce, through the Economic Development Administration (EDA), is seeking information to inform the planning and design of the Regional Technology and Innovation Hub (Tech Hubs) program. Responses to this Request for Information (RFI) will inform planning for the implementation of the Tech Hubs program.

DATES: Comments must be received by 5 p.m. Eastern Time on March 16, 2023. Submissions received after that date may not be considered. Written comments in response to this RFI should be submitted in accordance with the instructions in the Addresses and Supplementary Information sections below.

ADDRESSES: Interested persons are invited to submit written comments by email to techhubs@eda.gov. Do not submit confidential business information or otherwise sensitive or protected information.

FOR FURTHER INFORMATION CONTACT: Eric Smith, Director, Office of Innovation and Entrepreneurship, via email at techhubs@eda.gov or via telephone at (202) 482-5081. Please reference “Tech Hubs RFI” in the subject line of your correspondence. You may find additional information on EDA at www.eda.gov.

SUPPLEMENTARY INFORMATION:

Background

Section 10621 of the Research and Development, Competition, and Innovation Act authorizes the Department of Commerce to designate geographically distributed regional technology and innovation hubs and to award strategy development grants and strategy implementation grants to eligible consortia (15 U.S.C. 3722a; Pub. L. 117-167, Division B, Title VI, Subtitle C, Sec. 10621(a)(2), 136 Stat. 1642). Tech Hubs will focus on technology development, job creation, entrepreneurial development, and expanding U.S. innovation capacity. Of the $10 billion authorized for the Tech Hubs program from Federal fiscal year 2023 through Federal fiscal year 2027, $500 million has been made available for the Tech Hubs program as of the publication of this RFI.

Section 10621 of the Research and Development, Competition, and Innovation Act provides that the Tech Hubs program shall:

(A) Encourage constructive collaborations among a wide range of new and traditional economic development stakeholders, including public and private sector entities;

(B) Support the development and implementation of regional innovation strategies;

(C) Designate regional technology and innovation hubs and facilitate the following implementation activities:

(i) Enable United States leadership in technology and innovation sectors critical to national and economic security.

(ii) Support regional economic development and resilience, including in small cities and rural areas, and promote increased geographic diversity of innovation across the United States;

(iii) Promote the benefits of technology development and innovation for all Americans, including underserved communities and vulnerable communities;

(iv) Support the modernization and expansion of United States manufacturing based on advances in technology and innovation;

(v) Support domestic job creation and broad-based economic growth; and

(vi) Improve the pace of market readiness, industry maturation, and overall commercialization and domestic production of innovative research;

(D) Ensure that the regional technology and innovation hubs address the intersection of emerging technologies and either regional challenges or national challenges; and

(E) Conduct ongoing research, evaluation, analysis, and dissemination of best practices for regional development and competitiveness in technology and innovation.

The Tech Hubs program is an economic development initiative to drive technology- and innovation-centric growth that leverages existing R&D strengths and technology demonstration and deployment capacities (public and private) within a region to catalyze the creation of good jobs for American workers at all skill levels equitably and inclusively.

EDA intends to run a rigorous, fair, and evidence-driven competition informed by the vision and experiences of all stakeholders, technology practitioners, and relevant policy research to guide program design, structure, and evaluation, and to aim for the strongest geographic and demographic diversity among hubs. This RFI seeks to encourage the field of regional innovation and economic development to provide evidence-based input that will be used to inform the design and implementation of the Tech Hubs program to maximize American competitiveness. The following sections provide specific requests for information, group into a number of categories.

Specific Request for Information: Tech Hubs Characteristics

1. What are the indicia of a successful future Tech Hub?

a. What are the defining features of a region that indicate that a Tech Hub will take hold, and how will EDA know if Tech Hubs succeed?

b. What existing assets and resources that generate, support, and enable technology innovation, demonstration, and deployment should Tech Hubs have? How does a Tech Hub leverage those assets and resources collaboratively?

c. When designating Tech Hubs, what additional geographic, demographic, or other place-specific factors or data should EDA consider?

d. Are there specific metrics that EDA should consider for designating Tech Hubs?

e. What are the technological considerations that EDA should consider?

2. How might EDA determine how the size and timing of investments will best accelerate a future Tech Hub's evolution into a global leader in an industry of the future that strengthens its region and our economic and national security? What data and information are important to that determination?

3. What are historical and existing examples of successful regional hub programs and what can be learned from these examples?

4. How might EDA determine the relative competitiveness of proposed Tech Hubs in the context of current and future global competition, in addition to domestic competition?

Specific Request for Information: Tech Hubs Program Design

Models for Program Design

5. Please share specific examples of evidence-based or evidence-informed investments, interventions, or policies, including those implemented in other countries, that would support technology-based economic development, particularly at the scale required to enable U.S. leadership in technology and innovation sectors critical to economic and national security.

a. What limitations currently prevent EDA from investing, intervening, or making policies in these ways? For example, are there statutory, regulatory, policy, design, or implementation issues with current EDA programs or operations that inhibit or prohibit EDA in some way? Are there other Federal organizations that have overcome these issues?

6. Are there specific workforce and labor development, business and entrepreneurial development, technology development and maturation, or infrastructure activities that EDA should emphasize through the program?

7. How should EDA consider worker and community input in Tech Hub design?

8. What are some of the most innovative approaches to commercialization at research institutions (e.g., universities, national labs) and what evidence exists on the effectiveness of these approaches?

9. What are some of the most innovative approaches to ensuring the growth of globally competitive industries occurs in an inclusive and equitable manner? Where possible, please provide examples of evidence-based and/or evidence-informed investments, interventions, or policies that drive inclusive and equitable outcomes.

Funding and Support

10. Please share best-in-class ideas for inclusive and accessible competition processes for the Tech Hubs program, including examples of best-in-class regional competitions in the United States or internationally.

11. How should EDA evaluate the extent to which certain technology and innovation sectors are critical to national and economic security? How should EDA take into account whether a consortium would help promote increased geographic diversity of innovation?

12. How can Federal designations and Federal grants be structured to maximize the desired impacts of the Tech Hubs program?

13. What other existing Federal programs can complement Tech Hubs?

14. In addition to existing Federal programs, what types of benefits or support could be helpful for “designated” regional Tech Hubs?

15. What should EDA consider in designing the program for its current appropriation of $500 million given the $10 billion vision in the program's statutory authorization? How should those considerations affect EDA's design of the program now and potentially into future years?

16. How should EDA evaluate the effectiveness and return on public-private partnerships or other collaborative arrangements that may emerge from the Tech Hubs?

17. What criteria should EDA use to shift investments within or between Tech Hubs to maximize the impact of the program?

18. What else should EDA consider when building this program, including but not limited to alignment with other Federal programs?

Specific Request for Information: Tech Hubs Program Administration

19. How should EDA measure whether the Tech Hubs program has been successful in achieving these outcomes, and how might EDA capture those data?

a. What are the indicia of successful investments under the Tech Hubs program? What, if any, earlier-in-time proxies are predictive of those indicia?

b. What is a realistic time horizon over which to evaluate the economic development, national security, and global competitiveness impacts of Tech Hubs? Which measures are meaningful over which time horizons (e.g., five, ten, fifteen years)?

20. What desirable organizational and institutional changes within and among tech hubs' participants, beneficiaries, and other stakeholders could the Tech Hubs program competition incentivize? How could those changes be incentivized, and how could those changes be measured?

21. How can EDA ensure input from, and engagement with, community members in the administration of the Tech Hubs program, particularly for underserved community members?

22. What are unique challenges faced by Established Program to Stimulate Competitive Research (EPSCoR) ¹ state-based consortia or rural consortia that EDA should be aware of and account for in program administration?

¹ EPSCoR states are determined annually by the National Science Foundation (NSF) based on the proportion of NSF funding each state receives within certain periods of time. See 42 U.S.C. 13503(b)(3) (2021); Nat'l Sci. Found., EPSCoR Criteria for Eligibility, https://beta.nsf.gov/funding/initiatives/epscor/epscor-criteria-eligibility (last visited Jan. 26, 2023).

Dated: February 8, 2023.
Eric Smith,
Director, Office of Innovation and Entrepreneurship.

[FR Doc. 2023-03022 Filed 2-13-23; 8:45 am]

BILLING CODE 3510-24-P